DEPARTMENT OF COMMERCE

Submission for OMB Review; Comment Request

The Department of Commerce will submit to the Office of Management and Budget (OMB) for clearance the following proposal for collection of information under the provisions of the Paperwork Reduction Act (44 U.S.C. chapter 35).

Agency: National Institute of Technology and Standards (NIST).

Title: SURF (Summer Undergraduate Research Fellowship) Program Student Information Application.

OMB Control Number: 0693-0042.

Form Number(s): None.

Type of Request: Regular Submission (renewal with changes of currently approved information collection instrument).

Number of Respondents: 650.

Average Hours Per Response: 1 hour.

Burden Hours: 650.

Needs and Uses: The SURF Program provides an opportunity for the NIST laboratories to encourage outstanding undergraduate students to pursue careers in science and engineering. The program also provides research opportunities for students to work with internationally known NIST scientists, to expose them to cutting-edge research, and promote the pursuit of graduate degrees in science and engineering. This is a request to revise the previously, approved information collection, as NIST will be consolidating two “collection instruments” into one application for both Gaithersburg and Boulder locations.

The purpose of this collection is to gather information requested on behalf of the NIST SURF Program for both Gaithersburg and Boulder locations. The information is submitted by the university on behalf of the student applicants. The student information is utilized by laboratory program coordinators and technical evaluators to determine student eligibility, select students to appropriate research projects, which match their needs, interests, and academic preparation, and ultimately, make offers to participate in the program. The information includes: Student name, host institution, email address/contact information, permanent address, choice of SURF-specific location (Boulder and/or Gaithersburg), class standing, research preference for NIST laboratories/projects they wish to apply to (for Boulder, 6 project choices and for Gaithersburg, 2 laboratory choices), previous SURF participation/mentor identification, academic major/minor, current overall GPA, need for housing and gender (for housing purposes only), special skills (laboratory, computer programming etc.), availability dates, resume, personal statement of commitment and research interests, two letters of recommendation, academic transcripts, ability to verify U.S. citizenship or permanent legal residency, acknowledgement of housing request, background check, and requirements for REAL ID Act.

Frequency: Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 25, 2015.
Glenna Mickelson,
Management Analyst, Office of the Chief Information Officer.

[FR Doc. 2015-21307 Filed 8-27-15; 8:45 am]

BILLING CODE 3510-13-P